DEPARTMENT OF HEALTH AND HUMAN SERVICES

Office of the Secretary

[Document Identifier: OS-0937-0200/OS-0990-0220]

Agency Information Collection Activities: Proposed Collection; Comment Request

AGENCY: Office of the Secretary, HHS.

In compliance with the requirement of section 3506(c)(2)(A) of the Paperwork Reduction Act of 1995, the Office of the Secretary (OS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

#1 Type of Information Collection Request: Extension of Currently Approved Collection;

Title of Information Collection: HHS Payment Management forms;

Form/OMB No.: OS-0937-0200;

Use: The PSC-270 is used to request advance or reimbursement payments to grantees. It serves in place of the SF-270. The PSC-272 is used to monitor cash advances made to grantees and the collect disbursement data. It serves in place of the SF-272.

Frequency: On occasion and quarterly;

Affected Public: State, local, or tribal governments, business or other for profit, non for profit institutions;

Annual Number of Respondents: 18,490;

Total Annual Responses: 73,560;

Average Burden Per Response: 15 minutes to 3 hours;

Total Annual Hours: 220,980.

#2 Type of Information Collection Request: Extension of a currently approved collection;

Title of Information Collection: Voluntary Industry Partner Surveys to Implement E.O. 12862;

Form/OMB No.: OS-0990-0220;

Use: DHHS will survey its partners and stakeholders to learn how they feel about departmental services. The information will be used to identify ways to improve the efficiency, quality, timeliness, and cost effective ways to provide services to the public.

Frequency: On occasion;

Affected Public: Business or other for profit, not for profit institutions, State, local, or tribal government;

Annual Number of Respondents: 4,680;

Total Annual Responses: 4680;

Average Burden Per Response: 15 hours;

Total Annual Hours: 902.

To obtain copies of the supporting statement and any related forms for the proposed paperwork collections referenced above, access the HHS Web site address at http://www.hhs.gov/oirm/infocollect/pending/ or e-mail your request, including your address, phone number, OMB number, and OS document identifier, to John.Burke@hhs.gov, or call the Reports Clearance Office on (202) 690-8356. Written comments and recommendations for the proposed information collections must be mailed within 60 days of this notice directly to the OS Paperwork Clearance Officer designated at the following address: Department of Health and Human Services, Office of the Secretary, Assistant Secretary for Budget, Technology, and Finance, Office of Information and Resource Management, Attention: John Burke (0937-0200/0990-0220), Room 531-H, 200 Independence Avenue, SW., Washington DC 20201.

Dated: October 6, 2003
John P. Burke, III,
Office of the Secretary, Paperwork Reduction Act Reports Clearance Officer.

[FR Doc. 03-26056 Filed 10-14-03; 8:45 am]

BILLING CODE 4168-17-P